FEDERAL TRADE COMMISSION

Agency Information Collection Activities; Request for OMB Review; Comment Request

AGENCY: Federal Trade Commission.

ACTION: Notice and request for comment; correction.

SUMMARY: The Federal Trade Commission published a notice and request for comment on November 29, 2011, concerning information requests to beverage alcohol advertisers, as required by the Paperwork Reduction Act. This document makes a technical correction to a hyperlink contained in that document.

DATES: Effective Date: December 5, 2011.

FOR FURTHER INFORMATION CONTACT: Janet M. Evans, Attorney, (202) 326-2125, or Carolyn L. Hann, Attorney, (202) 326-2745, Division of Advertising Practices, Bureau of Consumer Protection, Federal Trade Commission, Washington, DC 20580.

SUPPLEMENTARY INFORMATION: In FR Doc. 2011-30434, appearing on page 73640 in the Federal Register of Tuesday, November 29, 2011, the following correction is made: SUPPLEMENTARY INFORMATION:

B. Information Requests to the Beverage Alcohol Industry [Corrected]

On page 73643, in the first column, “http://www.ftc.gov/fedreg2011/11/111121alcoholstudypra2supp.pdf” is corrected to read “http://www.ftc.gov/os/fedreg/2011/11/111121alcoholstudypra2supp.pdf.”

Richard C. Donohue,
Acting Secretary.

[FR Doc. 2011-31082 Filed 12-2-11; 8:45 am]

BILLING CODE 6750-01-P